DEPARTMENT OF TRANSPORTATION

Federal Aviation Administration

14 CFR Part 39

[Docket No. FAA-2011-0387; Directorate Identifier 2010-NM-222-AD; Amendment 39-16804; AD 2011-18-22 ]

RIN 2120-AA64

Airworthiness Directives; Airbus Model A330-201, -202, -203, -223, and -243 Airplanes, Model A330-300 Series Airplanes, Model A340-200 Series Airplanes, and Model A340-300 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Surface defects were visually detected on the rudder of * * * [an] in-service aeroplane during scheduled maintenance.

Investigation has determined that the defects reported on both rudders corresponded to areas that had been reworked in production. The investigation confirmed that the surface defects were a result of de-bonding between the skin and honeycomb core.

* * * * *

An extended de-bonding, if not detected and corrected, may degrade the structural integrity of the rudder. The loss of the rudder leads to degradation of the handling qualities and reduces the controllability of the aeroplane.

* * * * *

We are issuing this AD to require actions to correct the unsafe condition on these products.

DATES: This AD becomes effective October 18, 2011.

The Director of the Federal Register approved the incorporation by reference of certain publications listed in this AD as of October 18, 2011.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

We issued a notice of proposed rulemaking (NPRM) to amend 14 CFR part 39 to include an AD that would apply to the specified products. That NPRM was published in the Federal Register on May 3, 2011 (76 FR 24832). That NPRM proposed to correct an unsafe condition for the specified products. The MCAI states:

Surface defects were visually detected on the rudder of one A319 and one A321 in-service aeroplane during scheduled maintenance.

Investigation has determined that the defects reported on both rudders corresponded to areas that had been reworked in production. The investigation confirmed that the surface defects were a result of de-bonding between the skin and honeycomb core.

Such reworks were also performed on some rudders fitted on A330 and A340-200/-300 aeroplanes.

An extended de-bonding, if not detected and corrected, may degrade the structural integrity of the rudder. The loss of the rudder leads to degradation of the handling qualities and reduces the controllability of the aeroplane.

To address this unsafe condition, EASA issued AD 2010-0021, superseding EASA AD 2009-0156, to require inspections of specific areas and, depending on findings, the accomplishment of corrective actions for those rudders where production reworks have been identified.

In addition, this [EASA] AD addresses the rudder population that has also been reworked in production but is not part of EASA AD 2010-0021 applicability.

Required actions include vacuum loss and elasticity laminate checker inspections for damage including de-bonding between the skin and honeycomb core of the rudder on certain areas of the rudder, and repair if necessary. You may obtain further information by examining the MCAI in the AD docket.

Comments

We gave the public the opportunity to participate in developing this AD. We considered the comment received. The commenter supports the NPRM (76 FR 24832, May 3, 2011).

Conclusion

We reviewed the available data, including the comment received, and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect 55 products of U.S. registry. We also estimate that it will take about 6 work-hours per product to comply with the basic requirements of this AD. The average labor rate is $85 per work-hour. Based on these figures, we estimate the cost of this AD to the U.S. operators to be $28,050, or $510 per product.

We have received no definitive data that would enable us to provide a cost estimate for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a ”significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM May 3, 2011 (76 FR 24832), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-18-22 Airbus: Amendment 39-16804. Docket No. FAA-2011-0387; Directorate Identifier 2010-NM-222-AD.

Effective Date

(a) This airworthiness directive (AD) becomes effective October 18, 2011.

Affected ADs

(b) None.

Applicability

(c) This AD applies to Airbus Model A330-201, -202, -203, -223, -243, -301, -302, -303, -321, -322, -323, -341, -342, and -343 airplanes, and Model A340-211, -212, -213, -311, -312, and -313 airplanes; certificated in any category; all manufacturer serial numbers, if equipped with rudders having part numbers and serial numbers as identified in table 1, table 2, or table 3 of this AD.

Table 1—Rudder Part Number (P/N) and Affected Rudder Serial Number (S/N)
Rudder P/N | Affected rudder S/N
F554-70000-000-00 | TS-2045
F554-70000-000-00 | TS-2046
F554-71000-000-00-0000 | TS-3013
F554-71000-000-00-0000 | TS-3014
F554-71000-000-00-0000 | TS-3020
F554-71000-000-00-0000 | TS-3022
F554-71000-000-00-0000 | TS-3023
F554-71000-000-00-0000 | TS-3027
F554-71000-000-00-0000 | TS-3031
F554-71000-000-00-0000 | TS-3034
F554-71000-000-00-0000 | TS-3036
F554-71000-000-00-0000 | TS-3038
F554-71000-000-00-0000 | TS-3041
F554-71000-000-00-0000 | TS-3046
F554-71000-000-00-0000 | TS-3054
F554-70005-000-00-0000 | TS-3102
F554-71002-000-00-0002 | TS-4018
F554-71002-000-00-0002 | TS-4022
F554-71002-000-00-0002 | TS-4031

Table 2—Rudder P/N and Affected Rudder S/N
Rudder P/N | Affected rudder S/N
A554-71500-024-00 | TS-1014
A554-71500-030-00 | TS-1042
F554-70000-000-00 | TS-2004
F554-70000-000-00 | TS-2005
F554-70000-000-00 | TS-2008
F554-70000-000-00 | TS-2009
F554-70000-000-00 | TS-2010
F554-70000-000-00 | TS-2022
F554-70000-000-00 | TS-2023
F554-70000-000-00 | TS-2028
F554-70000-000-00 | TS-2029
F554-70000-000-00 | TS-2030
F554-70000-000-00 | TS-2032
F554-70000-000-00 | TS-2033
F554-70000-000-00 | TS-2034
F554-70000-000-00 | TS-2041
F554-70000-000-00 | TS-2044
F554-70000-000-00 | TS-2048
F554-70000-000-00 | TS-2049
F554-70000-000-00 | TS-2050
F554-70000-000-00 | TS-2057
F554-70000-000-00 | TS-2067
F554-70000-002-00 | TS-2068
F554-70000-002-00 | TS-2071
F554-71000-000-00-0000 | TS-3001
F554-71000-000-00-0000 | TS-3010
F554-71000-000-00-0000 | TS-3012
F554-71000-000-00-0000 | TS-3017
F554-71000-000-00-0000 | TS-3018
F554-71000-000-00-0000 | TS-3019
F554-71000-000-00-0000 | TS-3021
F554-71000-000-00-0000 | TS-3024
F554-71000-000-00-0000 | TS-3025
F554-71000-000-00-0000 | TS-3026
F554-71000-000-00-0000 | TS-3028
F554-71000-000-00-0000 | TS-3029
F554-71000-000-00-0000 | TS-3030
F554-71000-000-00-0000 | TS-3032
F554-71000-000-00-0000 | TS-3035
F554-71000-000-00-0000 | TS-3037
F554-71000-000-00-0000 | TS-3039
F554-71000-000-00-0000 | TS-3040
F554-71000-000-00-0000 | TS-3042
F554-71000-000-00-0000 | TS-3047
F554-71000-000-00-0000 | TS-3049
F554-71000-000-00-0000 | TS-3055
F554-71000-000-00-0000 | TS-3058
F554-71000-000-00-0000 | TS-3062
F554-71000-000-00-0000 | TS-3063
F554-71000-000-00-0000 | TS-3065
F554-71000-000-00-0000 | TS-3067
F554-71000-000-00-0000 | TS-3069
F554-71000-000-00-0000 | TS-3070
F554-71000-000-00-0000 | TS-3077
F554-71000-000-00-0000 | TS-3078
F554-71000-000-00-0000 | TS-3080
F554-71000-000-00-0000 | TS-3081
F554-71000-000-00-0000 | TS-3086
F554-71000-000-00-0000 | TS-3089
F554-71000-000-00-0000 | TS-3092
F554-71000-000-00-0000 | TS-3093
F554-71000-000-00-0000 | TS-3095
F554-71000-000-00-0000 | TS-3096
F554-70005-000-00-0000 | TS-3098
F554-70005-000-00-0000 | TS-3099
F554-70005-000-00-0000 | TS-3101
F554-70005-000-00-0000 | TS-3103
F554-70005-000-00-0000 | TS-3104
F554-70005-000-00-0000 | TS-3105
F554-70005-000-00-0000 | TS-3108
F554-70005-000-00-0000 | TS-3109
F554-70005-000-00-0000 | TS-3110
F554-70005-000-00-0000 | TS-3111
F554-70005-000-00-0000 | TS-3112
F554-70005-000-00-0000 | TS-3114
F554-70005-000-00-0000 | TS-3116
F554-70005-000-00-0000 | TS-3117
F554-70005-000-00-0000 | TS-3120
F554-70005-000-00-0000 | TS-3131
F554-70005-000-00-0000 | TS-3132
F554-70005-000-00-0000 | TS-3212
F554-70005-000-00-0002 | TS-3323
F554-70005-000-00-0002 | TS-3330
F554-71002-000-00-0002 | TS-4009
F554-71002-000-00-0002 | TS-4010
F554-71002-000-00-0002 | TS-4012
F554-71002-000-00-0002 | TS-4013
F554-71002-000-00-0002 | TS-4014
F554-71002-000-00-0002 | TS-4015
F554-71002-000-00-0002 | TS-4016
F554-71002-000-00-0002 | TS-4017
F554-71002-000-00-0002 | TS-4020
F554-71002-000-00-0002 | TS-4023
F554-71002-000-00-0002 | TS-4025
F554-71002-000-00-0002 | TS-4026
F554-71002-000-00-0002 | TS-4027
F554-71002-000-00-0002 | TS-4029
F554-71002-000-00-0002 | TS-4030
F554-71002-000-00-0002 | TS-4038
F554-71002-000-00-0002 | TS-4047
F554-71002-000-00-0002 | TS-4049
F554-71002-000-00-0002 | TS-4066
F554-71002-000-00-0003 | TS-4083

Table 3—Rudder P/N and Affected Rudder S/N
Rudder P/N | Affected rudder S/N
F554-71000-000-00-0000 | TS-3060
F554-71000-000-00-0000 | TS-3068
F554-70005-000-00-0000 | TS-3128
F554-71002-000-00-0002 | TS-4011

Subject

(d) Air Transport Association (ATA) of America Code 55: Stabilizers.

Reason

(e) The mandatory continuing airworthiness information (MCAI) states:

Surface defects were visually detected on the rudder of * * * [an] in-service aeroplane during scheduled maintenance.

Investigation has determined that the defects reported on both rudders corresponded to areas that had been reworked in production. The investigation confirmed that the surface defects were a result of de-bonding between the skin and honeycomb core.

* * * * *

An extended de-bonding, if not detected and corrected, may degrade the structural integrity of the rudder. The loss of the rudder leads to degradation of the handling qualities and reduces the controllability of the aeroplane.

* * * * *

Compliance

(f) You are responsible for having the actions required by this AD performed within the compliance times specified, unless the actions have already been done.

Inspections

(g) For rudders identified in table 1 and table 2 of this AD: Within the compliance time in paragraph (g)(1) or (g)(2) of this AD as applicable, do a vacuum loss inspection on the rudder non-ventilated area (Area 1) for damage including de-bonding between the skin and honeycomb core of the rudder, in accordance with the Accomplishment Instructions of Airbus Mandatory Service Bulletin A330-55-3042 or A340-55-4038, both dated April 22, 2010, as applicable.

(1) For rudders identified in table 1 of this AD: Within 1,800 flight hours after the effective date of this AD.

(2) For rudders identified in table 2 of this AD: Within 21 months after the effective date of this AD.

(h) For rudders identified in table 1 and table 2 of this AD: Within 21 months after the effective date of this AD, do an elasticity laminate checker inspection on the trailing edge area (Area 2) for damage including de-bonding between the skin and honeycomb core of the rudder, in accordance with the Accomplishment Instructions of Airbus Mandatory Service Bulletin A330-55-3042 or A340-55-4038, both dated April 22, 2010, as applicable. Thereafter, repeat the inspection two more times at intervals not to exceed 4,500 flight cycles but not less than 4,000 flight cycles from the most recent inspection.

(i) For rudders identified in table 3 of this AD: Within 4,500 flight cycles but not less than 4,000 flight cycles from the date of the sampling inspection identified in table 4 of this AD, or within 30 days after the effective date of this AD, whichever occurs later, do an elasticity laminate checker inspection on the trailing edge area for damage including de-bonding between the skin and honeycomb core of the rudder, in accordance with the Accomplishment Instructions of Airbus Mandatory Service Bulletin A330-55-3042 or A340-55-4038, both dated April 22, 2010, as applicable. Repeat the inspection once within 4,500 flight cycles after doing the inspection but not less than 4,000 flight cycles from the last inspection.

Table 4—Rudder P/N and Affected Rudder S/N and Sampling Inspection Date
Rudder P/N | Affected rudder S/N | Date of sampling inspection
F554-71000-000-00-0000 | TS-3060 | March 12, 2009.
F554-71000-000-00-0000 | TS-3068 | April 27, 2009.
F554-70005-000-00-0000 | TS-3128 | July 13, 2009.
F554-71002-000-00-0002 | TS-4011 | February 12, 2009.

Corrective Actions

(j) If damage is found during any inspection required by paragraph (g), (h), (i), or (k)(1) of this AD, before further flight, repair the damage using a method approved by either the Manager, International Branch, ANM 116, Transport Airplane Directorate, FAA; or the European Aviation Safety Agency (EASA) (or its delegated agent).

Restoration

(k) If no damage is found during any inspection required by paragraph (g) of this AD, before further flight, restore the vacuum loss holes by doing a temporary restoration with self-adhesive disks or tapes, a temporary restoration with resin, or a permanent restoration with resin, in accordance with the Accomplishment Instructions of Airbus Mandatory Service Bulletin A330-55-3042 or A340-55-4038, both dated April 22, 2010, as applicable. Do the applicable actions specified in paragraph (k)(1) or (k)(2) of this AD.

(1) For airplanes on which a temporary restoration with self-adhesive disks or tapes is done, within 900 flight hours after doing the restoration, do a detailed inspection for loose or missing self-adhesive disks or tapes and repeat the inspection thereafter at intervals not to exceed 900 flight hours until the permanent restoration is done, in accordance with the Accomplishment Instructions of Airbus Mandatory Service Bulletin A330-55-3042 or A340-55-4038, both dated April 22, 2010, as applicable. If any loose or missing self-adhesive disks or tapes are found during any inspection required by this AD, before further flight, close the holes, in accordance with the Accomplishment Instructions of Airbus Mandatory Service Bulletin A330-55-3042 or A340-55-4038, both dated April 22, 2010, as applicable. Do the permanent restoration within 21 months after doing the temporary restoration, in accordance with the Accomplishment Instructions of Airbus Mandatory Service Bulletin A330-55-3042 or A340-55-4038, both dated April 22, 2010, as applicable.

(2) For airplanes on which a temporary restoration with resin is done: Within 21 months after doing the temporary restoration, do the permanent restoration, in accordance with the Accomplishment Instructions of Airbus Mandatory Service Bulletin A330-55-3042 or A340-55-4038, both dated April 22, 2010, as applicable.

Reporting Requirements

(l) Submit a report of the findings (positive and negative) of the first inspection required by paragraphs (g), (h), and (i) of this AD to Airbus, at the applicable time specified in paragraph (l)(1) or (l)(2) of this AD. The report must include the inspection results, a description of any discrepancies found, the airplane serial number, and the number of landings and flight hours on the airplane.

(1) If the inspection was done on or after the effective date of this AD: Submit the report within 30 days after the inspection.

(2) If the inspection was done before the effective date of this AD: Submit the report within 30 days after the effective date of this AD.

Parts Installation

(m) As of the effective date of this AD, no person may install any affected rudder listed in table 1, table, 2, or table 3 of this AD, on any airplane, unless the rudder is inspected as specified in paragraphs (g), (h), and (i) of this AD, as applicable, and all applicable corrective actions specified in paragraph (j) of this AD and applicable restoration specified in paragraph (k) of this AD are done.

FAA AD Differences

Note 1: This AD differs from the MCAI and/or service information as follows: No differences.

Other FAA AD Provisions

(n) The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue, SW., Renton, Washington 98057-3356; telephone (425) 227-1138; fax (425) 227-1149. Information may be e-mailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Related Information

(o) Refer to MCAI EASA Airworthiness Directive 2010-0127, dated June 23, 2010; Airbus Mandatory Service Bulletin A330-55-3042, dated April 22, 2010; and Airbus Mandatory Service Bulletin A340-55-4038, dated April 22, 2010; for related information.

Material Incorporated by Reference

(p) You must use Airbus Mandatory Service Bulletin A330-55-3042, dated April 22, 2010; or Airbus Mandatory Service Bulletin A340-55-4038, dated April 22, 2010; as applicable; to do the actions required by this AD, unless the AD specifies otherwise.

(1) The Director of the Federal Register approved the incorporation by reference of this service information under 5 U.S.C. 552(a) and 1 CFR part 51.

(2) For service information identified in this AD, contact Airbus SAS—Airworthiness Office—EAL, 1 Rond Point Maurice Bellonte, 31707 Blagnac Cedex, France; telephone +33 5 61 93 36 96; fax +33 5 61 93 45 80; e-mail airworthiness.A330-A340@airbus.com; Internet http://www.airbus.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on August 25, 2011.
Ali Bahrami,
Manager, Transport Airplane Directorate, Aircraft Certification Service.

[FR Doc. 2011-22635 Filed 9-12-11; 8:45 am]

BILLING CODE 4910-13-P